DEPARTMENT OF DEFENSE

GENERAL SERVICES ADMINISTRATION

NATIONAL AERONAUTICS AND SPACE ADMINISTRATION

[OMB Control No. 9000-0139]

Federal Acquisition Regulation; Information Collection; Federal Acquisition and Community Right-To-Know

AGENCIES: Department of Defense (DOD), General Services Administration (GSA), and National Aeronautics and Space Administration (NASA).

ACTION: Notice of request for an extension to an existing OMB clearance (9000-0139).

SUMMARY: Under the provisions of the Paperwork Reduction Act of 1995 (44 U.S.C. Chapter 35), the Federal Acquisition Regulation (FAR) Secretariat will be submitting to the Office of Management and Budget (OMB) a request to review and approve an extension of a currently approved information collection requirement concerning the reporting requirements of the Emergency Planning and Community Right-To-Know Act of 1986 (42 U.S.C. 11001-11050) and the Pollution Prevention Act of 1990 (42 U.S.C. 13101-13109). The clearance currently expires on January 31, 2009.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before November 28, 2008.

ADDRESSES: Submit comments regarding this burden estimate or any other aspect of the collection of information, including suggestions for reducing this burden to the General Services Administration, FAR Secretariat (VPR), 1800 F Street, NW, Room 4041, Washington, DC 20405.

FOR FURTHER INFORMATION CONTACT Mr. William Clark, Contract Policy Division, GSA (202) 219-1813.

SUPPLEMENTARY INFORMATION:

A. Purpose

FAR Subpart 23.9 and its associated solicitation provision and contract clause implement the requirements of E.O. 13148 of April 21, 2000, published in the Federal Register at 65 FR 24595, April 26, 2000. “Greening the Government through Leadership in Environmental Management.” The FAR coverage requires offerors, except for acquisitions of commercial items as defined in FAR Part 2, in competitive acquisitions over $100,000 (including options) and competitive 8(a) contracts, to certify that they will comply with applicable toxic chemical release reporting requirements of the Emergency Planning and Community Right-to-Know Act of 1986 (42 U.S.C. 11001-11050) and the Pollution Prevention Act of 1990 (42 U.S.C. 13101-13109).

B. Annual Reporting Burden

Respondents: 167,487.

Responses Per Respondent: 1.

Annual Responses: 167,487.

Hours Per Response: 0.50.

Total Burden Hours: 83,744.

OBTAINING COPIES OF PROPOSALS: Requesters may obtain a copy of the information collection documents from the General Services Administration, FAR Secretariat (VPR), Room 4035, Washington, DC 20405, telephone (202) 501-4755. Please cite OMB Control No. 9000-0139, Federal Acquisition and Community Right-to-Know, in all correspondence.

Dated: September 17, 2008.
Al Matera,
Director, Office of Acquisition Policy.

[FR Doc. E8-22740 Filed 9-26-08; 8:45 am]

BILLING CODE 6820-EP-S